DEPARTMENT OF TRANSPORTATION

Federal Aviation Administration

Sixth Meeting: RTCA Special Committee 206: Aeronautical Information Services Data Link

AGENCY: Federal Aviation Administration (FAA), DOT.

ACTION: Notice of RTCA Special Committee 206 meeting.

SUMMARY: The FAA is issuing this notice to advise the public of a meeting of RTCA Special Committee 206: Aeronautical Information Services Data Link.

DATES: The meeting will be held September 11-15, 2006, from 9 a.m. to 5 p.m.

ADDRESSES: The meeting will be held at RTCA, Inc., 1828 L Street, NW., Suite 805, Washington, DC 20036.

FOR FURTHER INFORMATION CONTACT: RTCA Secretariat, 1828 L Street, NW., Suite 805, Washington, DC, 20036-5133; telephone (202) 833-9339; fax (202) 833-9434; Web site http://www.rtca.org.

SUPPLEMENTARY INFORMATION: Pursuant to section 10(a)(2) of the Federal Advisory Committee Act (P.L. 92-463, 5 U.S.C., Appendix 2), notice is hereby given for a Special Committee 206 meeting. The agenda will include:

• September 11:

• Opening Session (Chairman's Remarks and Introductions, Review and Approve Meeting Agenda and Minutes, Discussion, Action Item Review).

• Presentations:

• Robert Grapple—Data Link Applications Coding.

• Robert Grapple—Open System Protocols for Aviation for Aviation Data Link Applications.

• John Loynes or Jim Dieudoene—FAA SWIM and it's Relationship to AIS and Weather.

• Doug Arbuckle—NGATS AIS Vision and Shared Situation Awareness.

• Robert Swain—ADS-B UAT Broadcast Services Infrastructure.

• Breakout meetings of Subgroup 1 and Subgroup 2.

• September 12-14:

• Subgroup 1 and Subgroup 2 Meetings.

• September 15:

• Subgroup 1 and Subgroup 2 Meetings.

• Closing Session (Other Business, Chairman Wrap Up and Conclusions, Date and Place of Next Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Dated: Issued in Washington, DC, on August 14, 2006.
Francisco, Estrada C.,
RTCA Advisory Committee.

[FR Doc. 06-7113 Filed 8-23-06; 8:45 am]

BILLING CODE 4910-13-M